DEPARTMENT OF COMMERCE

National Telecommunications and Information Administration

Governor's Opt-Out Notice To Conduct State Radio Access Network

AGENCY: National Telecommunications and Information Administration, Department of Commerce.

ACTION: Notice.

SUMMARY: The Middle Class Tax Relief and Job Creation Act of 2012 (Act) requires a Governor of a State to notify the First Responder Network Authority (FirstNet), the National Telecommunications and Information Administration (NTIA), and the Federal Communications Commission (FCC) of a State's decision to opt-out of participation in the deployment of the nationwide public safety broadband network (NPSBN) as proposed by FirstNet and to conduct its own deployment of a Radio Access Network in the State. This Notice provides instructions for such “opt-out” notices to NTIA.

DATES: Applicable on October 25, 2017.

ADDRESSES: All opt-out notices must be filed via the dedicated email address: sapp@ntia.doc.gov, or via certified mail to the Office of Public Safety Communications, National Telecommunications and Information Administration, United States Department of Commerce, 1401 Constitution Ave NW., Washington, DC 20230, ATTN: Marsha MacBride.

FOR FURTHER INFORMATION CONTACT: Carolyn Dunn; Office of Public Safety Communications; National Telecommunications and Information Administration; U.S. Department of Commerce; 1401 Constitution Avenue NW; Washington, DC 20230; cdunn@ntia.doc.gov; (202) 482-4103.

SUPPLEMENTARY INFORMATION:

Under section 6302(e)(2) of the Act, the Governor of each State or Territory has 90 days from the receipt of notice by FirstNet under section 6302(e)(1) of the Act to decide whether to participate in the deployment of the NPSBN as proposed by FirstNet or whether to conduct its own deployment of a Radio Access Network in the State.¹ Section 6302(e)(3)(A) of the Act requires a Governor of a State or Territory to notify FirstNet, NTIA, and the FCC of a State's decision to opt-out.² This Notice provides the instructions and address for submission of such “opt-out” notices to NTIA.

¹ See 47 U.S.C. 1442(e).

² 47 U.S.C. 1442(e)(3)(A). Please note that States that choose to participate in the deployment of the NPSBN as proposed by FirstNet are not required to file a notice of such participation with NTIA.

All opt-out notices must be filed via the dedicated email address: sapp@ntia.doc.gov, or via certified mail to the Office of Public Safety Communications, National Telecommunications and Information Administration, United States Department of Commerce, 1401 Constitution Ave NW., Washington, DC 20230, ATTN: Marsha MacBride.

An opt-out notice must be made by the Governor or the Governors' duly authorized designee, and if made by the latter, evidence of such delegation must be provided to NTIA with the notice. An opt-out notice should also certify concurrent notification of the opt-out decision to FirstNet and the FCC.³

³ See also FCC, Public Notice, “Public Safety and Homeland Security Bureau Announces 90-Day Deadline for Governors to Elect Whether to Opt Out of the FirstNet Radio Access Network,” DA 17-956, PS Dkt. No. 16-269 (rel. Oct. 2, 2017).

Dated: October 20, 2017.
Kathy D. Smith,
Chief Counsel, National Telecommunications and Information Administration.

[FR Doc. 2017-23144 Filed 10-24-17; 8:45 am]

BILLING CODE 3510-60-P